DEPARTMENT OF HOUSING AND URBAN DEVELOPMENT

[Docket No. 7070-N-94]

30-Day Notice of Proposed Information Collection: HUD Conditional Commitment/Direct Endorsement Statement of Appraised Value; OMB Control No.: 2502-0494

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: January 10, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410-5000; email PaperworkReductionActOffice@hud.gov.

FOR FURTHER INFORMATION CONTACT: Colette Pollard, Reports Management Officer, REE, Department of Housing and Urban Development, 451 7th Street SW, Washington, DC 20410; email Colette.Pollard@hud.gov or telephone 202-402-3400. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Pollard.

SUPPLEMENTARY INFORMATION: This notice informs the public that HUD is seeking approval from OMB for the information collection described in Section A. The Federal Register notice that solicited public comment on the information collection for a period of 60 days was published on September 5, 2023, at 88 FR 60705.

A. Overview of Information Collection

Title of Information Collection: HUD Conditional Commitment/Direct Endorsement Statement of Appraised Value.

OMB Control Number, if applicable: 2502-0494.

Type of Request: Extension of currently approved collection.

Form Number: HUD 92800.5B.

Description of the need for the information and proposed use: Lenders must provide loan applicants a completed copy of Form HUD-92800.5B at or before loan closing. Form HUD-92800.5B serves as the mortgagee's conditional commitment/direct endorsement statement of appraised value of Federal Housing Administration (FHA) mortgage insurance on the property. The form provides a section for the statement of the property's appraised value and other required FHA disclosures to the borrower, including specific conditions that must be met before HUD can endorse a mortgage for FHA insurance. HUD uses the information to determine the eligibility of a property for mortgage insurance.

Respondents: Mortgagees.

Estimated Number of Respondents: 1,407.

Estimated Number of Responses: 562,800.

Frequency of Response: 400.

Average Hours per Response: 0.12.

Total Estimated Burdens: 67,536.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. Chapter 35.

D. Summary of Form 92800.5B Comments and HUD Responses

Comment: A commenter shared their understanding that FHA requires lenders to utilize the 92800.5B to comply with the Consumer Financial Protection Bureau's (CFPB) requirement for lenders to provide borrows a copy of the appraisal report promptly upon completion or at least three days prior to the closing of the loan. The commenter recommends that FHA remove its requirement for lenders to utilize the HUD Form 92800.5B, Conditional Commitment/Direct Endorsement Statement of Appraised Value. The commenter felt the 92800.5B is obsolete and duplicative due to borrower's receiving a copy of the appraisal report with the HUD Form 92900-LT, FHA Loan Underwriting and Transmittal Summary.

HUD Response: HUD appreciates this comment. Although the HUD Form 92800.5B and the 92900-LT state the Appraised Value, neither form is tied to CFPB's requirements for providing the Borrower a copy of the appraisal report or the Borrower's receipt of the appraisal report. Form 92800.5B provides other required FHA disclosures to the borrower, including specific conditions that must be met before HUD can endorse a mortgage for FHA insurance. Consideration may be given to necessary updates at a future date.

Colette Pollard,
Department Reports Management Officer, Office of Policy Development and Research, Chief Data Officer.

[FR Doc. 2023-27061 Filed 12-8-23; 8:45 am]

BILLING CODE P